DEPARTMENT OF COMMERCE

International Trade Administration

A-821-811

Final Results of Five-year Sunset Review of Suspended Antidumping Duty Investigation on Ammonium Nitrate from the Russian Federation

AGENCY: Import Administration, International Trade Administration, Department of Commerce.

SUMMARY: On April 1, 2005, the Department of Commerce (“the Department”) initiated a sunset review of the suspended antidumping duty investigation on ammonium nitrate from the Russian Federation (“Russia”) pursuant to section 751(c) of the Tariff Act of 1930, as amended (“the Act”). See Notice of Initiation of Five-year (“Sunset”) Reviews, 70 FR 16800 (April 1, 2005) (“Initiation Notice”). On the basis of notices of intent to participate filed on behalf of domestic interested parties and adequate substantive comments filed on behalf of domestic and respondent interested parties, the Department conducted a full (240-day) review. As a result of this review, the Department finds that termination of the suspended antidumping duty investigation on ammonium nitrate from Russia would likely lead to continuation or recurrence of dumping at the levels indicated in the Final Results of Review section of this notice.

EFFECTIVE DATE: March 6, 2006.

FOR FURTHER INFORMATION CONTACT: Judith Wey Rudman or Aishe Allen, Import Administration, International Trade Administration, U.S. Department of Commerce, 14th Street and Constitution Avenue, NW., Washington, DC 20230; telephone: (202) 482-0192, or 482-0172, respectively.

SUPPLEMENTARY INFORMATION:

Scope of the Review

The products covered by the sunset review of the suspended antidumping duty investigation on ammonium nitrate from Russia include solid, fertilizer grade ammonium nitrate products, whether prilled, granular or in other solid form, with or without additives or coating, and with a bulk density equal to or greater than 53 pounds per cubic foot. Specifically excluded from this scope is solid ammonium nitrate with a bulk density less than 53 pounds per cubic foot (commonly referred to as industrial or explosive grade ammonium nitrate). The merchandise subject to this review is classified in the Harmonized Tariff Schedule of the United States (“HTSUS”) at subheading 3102.30.00.00. Although the HTSUS subheadings are provided for convenience and customs purposes, the written description of the merchandise within the scope of this sunset review is dispositive.

History of the Suspension Agreement

On August 12, 1999, the Department initiated an antidumping duty investigation under section 732 of the Act on ammonium nitrate from Russia. See Initiation of Antidumping Duty Investigation: Solid Fertilizer Grade Ammonium Nitrate From the Russian Federation, 64 FR 45236 (August 19, 1999). On January 7, 2000, the Department preliminarily determined that ammonium nitrate from Russia is being, or is likely to be, sold in the United States at less than fair value. See Notice of Preliminary Determination of Sales at Less Than Fair Value: Solid Fertilizer Grade Ammonium Nitrate From the Russian Federation, 65 FR 1139 (January 7, 2000). The Department suspended the antidumping duty investigation on ammonium nitrate from Russia effective May 19, 2000. The basis for this action was an agreement between the Department and the Ministry of Trade of the Russian Federation (“MOT”) accounting for substantially all imports of ammonium nitrate from Russia, wherein the MOT has agreed to restrict exports of ammonium nitrate from all Russian producers/exporters to the United States and to ensure that such exports are sold at or above the agreed reference price. See Suspension of Antidumping Duty Investigation: Solid Fertilizer Grade Ammonium Nitrate From the Russian Federation, 65 FR 37759 (June 16, 2000) (“Suspension Agreement”). Thereafter, pursuant to a request by the petitioner, the Committee for Fair Ammonium Nitrate Trade (“COFANT”), the Department completed its investigation and published in the Federal Register its final determination of sales at less that fair value. See Notice of Final Determination of Sales at Less Than Fair Value; Solid Fertilizer Grade Ammonium Nitrate From the Russian Federation, 65 FR 42669 (July 11, 2000) (“Final Determination”). In the Final Determination, the Department calculated weighted-average dumping margins of 253.98 percent for Nevinnomyssky Azot, a respondent company in the investigation, and for the Russia-wide entity. The Suspension Agreement remains in effect for all manufacturers, producers, and exporters of ammonium nitrate from Russia.

Background

On April 1, 2005, the Department initiated a sunset review of the suspended antidumping duty investigation on ammonium nitrate from Russia, pursuant to section 751(c) of the Act. See Notice of Initiation of Five-year (“Sunset”) Reviews, 70 FR 16800 (April 1, 2005). On October 24, 2005, the Department published the preliminary results of the full sunset review of the suspended antidumping duty investigation on ammonium nitrate from Russia. See Preliminary Results of Five-year Sunset Review of Suspended Antidumping Duty investigation on Ammonium Nitrate from the Russian Federation, 70 FR 61431 (October 24, 2005) (“Preliminary Results”) and the accompanying Issues and Decision Memorandum for the Preliminary Results of the Full Five-year Sunset Review of the Suspended Antidumping Duty Investigation on Ammonium Nitrate from the Russian Federation (“Preliminary Results Decision Memorandum”). In the Preliminary Results, the Department preliminarily found that the termination of the suspended antidumping duty investigation would likely lead to continuation or recurrence of dumping (for a full discussion of the Department's preliminary finding see the Preliminary Results and the Preliminary Results Decision Memorandum).

On December 7, 2005, the Department received a case brief from the petitioner in this proceeding, the Committee for Fair Ammonium Nitrate Trade (“COFANT”). No other case briefs or rebuttal briefs were received.

Analysis of Comments Received

All issues raised by parties to this sunset review are addressed in the Issues and Decision Memorandum for the Final Results of the of the Full Five-year Sunset Review of the Suspended Antidumping Duty Investigation on Ammonium Nitrate from the Russian Federation (“Final Results Decision Memorandum”) from Joseph A. Spetrini, Deputy Assistant Secretary for Policy and Negotiations, to David M. Spooner, Assistant Secretary for Import Administration, dated February 27, 2006, which is adopted by this notice. The issues discussed in the Final Results Decision Memorandum include the likelihood of continuation or recurrence of dumping and the magnitude of the margins likely to prevail were the suspended antidumping duty investigation to be terminated. Parties may find a complete discussion of all issues raised in this review and the corresponding recommendations in this public memorandum which is on file in the Central Records Unit, room B-099, of the main Department of Commerce building. In addition, a complete version of the Final Results Decision Memorandum can be accessed directly on the Web at http://ia.ita.doc.gov/frn. The paper copy and electronic version of the Final Results Decision Memorandum are identical in content.

Final Results of Review

We determine that termination of the suspended antidumping duty investigation on ammonium nitrate from Russia would likely lead to a continuation or recurrence of dumping at the following percentage weighted-average margin:

Exporter/manufacturer | Weighted-average margin (percent)
JSC Azot Nevinnomyssky | 253.98
Russia-Wide | 253.98

This notice also serves as the only reminder to parties subject to administrative protective order (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

This sunset review and notice are in accordance with sections 751(c), 752, and 777(i)(1) of the Act.

Dated: February 27, 2006.
David M. Spooner,
Assistant Secretary for Import Administration.

[FR Doc. E6-3086 Filed 3-3-06; 8:45 am]

BILLING CODE 3510-DS-S